DEPARTMENT OF HEALTH AND HUMAN SERVICES

National Institutes of Health

Center for Scientific Review; Amended Notice of Meeting

Notice is hereby given of a change in the meeting of the Respiratory Physiology Study Section, November 3, 2003, 8:30 a.m. to November 4, 2003, 5 p.m., Governor's House Hotel, 1615 Rhode Island Avenue, NW., Washington, DC 20036 which was published in the Federal Register on October 27, 2003, 68 FR 61223-61225.

The meeting will be held at the Washington Terrace Hotel, 1515 Rhode Island Avenue, Washington, DC 20005. The meeting dates and time remain the same. The meeting is closed to the public.

Dated: October 29, 2003.
LaVerne Y. Stringfield,
Director, Office of Federal Advisory Committee Policy.

[FR Doc. 03-27700 Filed 11-3-03; 8:45 am]

BILLING CODE 4140-01-M